DEPARTMENT OF AGRICULTURE

Submission for OMB Review; Comment Request

March 11, 2002.

The Department of Agriculture has submitted the following information collection requirement(s) to OMB for review and clearance under the Paperwork Reduction Act of 1995, Public Law 104-13. Comments regarding (a) whether the collection of information is necessary for proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: 7 CFR Part 1951-L, Servicing Cases Where Unauthorized Loan or Other Assistance are Received.

OMB Control Number: 0560-0160.

Summary of Collection: The Farm Service Agency (FSA) farm loan programs are administered under the provisions of the Consolidated Farm and Rural Development Act (CONACT) [P.L. 87-128). Occasionally, FSA encounters cases where unauthorized assistance was received by a borrower. This assistance may be a loan where the recipient did not meet the eligibility requirements set forth in program regulations or where the borrower qualified for loan assistance but a subsidized interest was charged on the loan, resulting in receipt of unauthorized interest subsidy benefits. The assistance may also be loan servicing where a borrower received an excessive write down or write-off of their debt. The information collected under the provisions of this regulation is provided on a voluntary basis by the borrower, although failure to cooperate to correct loan accounts may result in liquidation of the loan.

Need and Use of the Information: The information collected by FSA will primarily be financial data such as amount of income, farm operating expenses, crop yields, etc. The borrower will provide written records or other information to refute FSA's findings when it is determined through audit or by other means that a borrower has received financial assistance to which he or she was not entitled. If the borrower is unsuccessful in having the FSA change its determination of unauthorized assistance, the borrower may appeal the FSA decision. Otherwise, the unauthorized loan recipient may pay the loan in full, apply for a loan under a different program, convey the loan security to the government, enter into an accelerated repayment agreement, or sell the security in lieu of forced liquidation.

Description of Respondents: Farms, Individuals or household; Business or other for-profit.

Number of Respondents: 200.

Frequency of Responses: Reporting; On occasion; Annually.

Total Burden Hours: 800.

Farm Service Agency

Title: Request for Aerial Photography.

OMB Control Number: 0560-0176.

Summary of Collection. The USDA Farm Service Agency (FSA) Aerial Photography Field Office (APFO) has the authority to coordinate aerial photography work in USDA, develop and carry out aerial photography and remote sensing programs and the Agency's aerial photography flying contract programs. Section 387 of the Agriculture Adjustment Act of February 1, 1938, states “The Secretary may furnish reproduction of such aerial or other photographs, mosaics, and maps as have been obtained in connection with the authorized work of the Department of farmers and governmental agencies at the estimated cost of furnishing such reproduction, and to persons other than farmers at such prices (not less than estimated cost of furnishing such reproductions) as the Secretary may determine. The money received from such sales is deposited in the Treasury to the credit of the appropriation charged with the cost of making such reproductions. FSA will collect information using FSA-441 form to collect the necessary customer and photography information needed for the USDA FSA Aerial Photography Field Office to produce and ship the various products ordered from their office.

Need and Use of the Information: FSA will collect information on the name, address, contact name, telephone, fax, e-mail, customer code, agency code, purchase order number, credit card number/exp. date and amount remitted/po amount. Customers have the option of placing orders by mail, fax, telephone, walk-in or floppy disk. Furnishing this information requires the customers to research and prepare their request before submitting it to APFO.

Description of Respondents: Farms; Individuals or household; Business or other for-profit; Not-for-profit institutions; Federal Government; State, Local or Tribal Government.

Number of Respondents: 12,000.

Frequency of Responses: Reporting; Other (when ordering).

Total Burden Hours: 8,000.

Animal and Plant Health Inspection Service

Title: 9 CFR part 94 Importation of Pork from Yucatan and Sonora, Mexico.

OMB Control Number: 0579-0138.

Summary of Collection: Title 21, U.S.C. authorizes sections 111, 114, 114a, 114-1, 115, 120, 121, 125, 126, 134a, 134c, 134f, and 134g of 21 U.S.C. These authorities permit the Secretary to prevent, control and eliminate domestic disease such as brucellosis, as well as, to take actions to prevent and to manage exotic diseases such as classical swine fever. Disease prevention is the most effective method for maintaining a healthy animal population and enhancing the Animal and Plant Health Inspection Service (APHIS) ability to compete in exporting animals and animal products. Veterinary Services, a division within USDA's Animal and Plant Health Inspection Service, is responsible for administering regulations intended to prevent the introduction of animal diseases, such as classical swine fever, into the United States. APHIS will collect information from the foreign meat inspection certificate that accompanies the pork from Yucatan and Sonora to the United States.

Need and Use of the Information: APHIS will collect information to certify that; the pork is from swine slaughtered at Federally inspected slaughter plants and are approved to export to the United States; and the pork has not been in contact with pork from any State in Mexico other than Yucatan or Sonora. Also, the Secretary certificate must show the seal number that appears on the shipping container in which the pork is transported.

Description of Respondents: Farms; Business or other for-profit; Individuals or households; Federal Government; State, Local, or Tribal Government.

Number of Respondents: 10.

Frequency of Responses: Reporting; On occasion.

Total Burden Hours: 40.

Animal and Plant Health Inspection Service

Title: Virus-Serum-Toxin Act and Regulations in 9 CFR, Subchapter E, Parts 101-124.

OMB Control Number: 0579-0013.

Summary of Collection: To fulfill its mission of preventing the importation, preparation, sale, or shipment of harmful veterinary biological products, the Veterinary Biologics Division of USDA's Animal and Plant Health Inspection Service (APHIS) issues licenses to qualified establishments that produce biological products, and issues permits to importers seeking to import such products into the United States. In order to effectively implement the licensing, production, labeling, importation, and other requirements, APHIS employs a number of information gathering tools such as establishment license applications, product license applications, product permit applications, product and test report forms and field study summaries.

Need and Use of the Information: APHIS uses the information collected as a primary basis for the approval or acceptance of issuing licenses or permits to ensure veterinary biological products that are used in the United States are pure, safe, potent, and effective. Also, APHIS uses the information to monitor the serials for purity, safety, potency and efficacy that are produced by licensed manufacturers prior to their release for marketing.

Description of Respondents: Business or other for-profit; State, Local or Tribal Government.

Number of Respondents: 200.

Frequency of Responses: Recordkeeping; Reporting: On occasion.

Total Burden Hours: 51,177.

Animal and Plant Health Inspection Service

Title: Importation of Restricted and Controlled Animal and Poultry Products and Byproducts, Organisms, and Vectors into the U.S.

OMB Control Number: 0579-0015.

Summary of Collection: Title 21, U.S.C. authorizes sections 111, 114, 114a, 114-1, 115, 120, 121, 125, 126, 134a, 134c, 134f, and 134g of 21 U.S.C. which permits the Secretary to prevent, control and eliminate domestic disease such as brucellosis, as well as to take actions to prevent and to manage exotic diseases such as bovine spongiform encephalopathy (BSE) and other foreign diseases. Disease prevention is the most effective method for maintaining a healthy animal population and enhancing the Animal and Plant Health Inspection Service (APHIS) ability to compete in exporting animals and animal products.

Need and Use of the Information: APHIS will collect information to ensure that imported items do not present a disease risk to the livestock and poultry populations of the United States. The information will provide APHIS with critical information concerning the origin and history of the items destined for importation into the United States. Without the information, the United States would be at risk of an exotic disease incursion.

Description of Respondents: Business or other for-profit; Individuals or households; Not for-profit institutions; Federal Government; State, Local, or Tribal Government.

Number of Respondents: 7,098.

Frequency of Responses: Recordkeeping; Reporting; On occasion.

Total Burden Hours: 17,830.

Animal Plant and Health Inspection Service

Title: Swine Health Protection.

OMB Control Number: 0579-0065.

Summary of Collection: Title 21, U.S.C. authorizes the Secretary and the Animal and Plant Health Inspection Service (APHIS) to prevent, control and eliminate domestic diseases, as well as to take actions to prevent and manage exotic disease such as hog cholera, foot-and-mouth disease, and other foreign disease. Disease prevention is the most effective method for maintaining a healthy animal population and enhancing APHIS ability to compete in the world market of animals and the trade of animal products. Garbage is one of the primary media through which numerous infections or communicable diseases of swine are transmitted. The Act and the regulations will allow only operators of garbage treatment facilities, which meet certain specification to utilize garbage for swine feeding. APHIS will use various forms to collect information.

Need and Use of the Information: APHIS collects information from persons desiring to obtain a permit (license) to operate a facility to treat garbage. Prior to issuance of a license, an inspection will be made of the facility by an authorized representative to determine if it meets all requirements of the regulations. Periodic inspections will be made to determine if licenses are meeting the standards for operation of their approved facilities. Upon receipt of the information from the Public Health Officials, the information is used by Federal or State animal health personnel to determine: whether the waste collector is feeding garbage to swine; whether it is being treated; and whether the feeder is licensed or needs to be licensed.

Description of Respondents: Farms; Business or other for profit.

Number of Respondents: 383.

Frequency of Responses: Recordkeeping; Reporting; On occasion.

Total Burden Hours: 584.

Animal Plant and Health Inspection Service

Title: Foreign Animal Disease (Emerging Disease Investigation (FAD/ED) Database).

OMB Control Number: 0579-0071.

Summary of Collection: Title 21 U.S.C. authorizes section 111, 114, 114a, 114-1, 115, 120, 121, 125, 126, 134a, 134c, 134f, and 134g, which permits the Secretary to prevent, control and eliminate domestic diseases, as well as taking actions to prevent and manage exotic diseases such as foot-and-mouth disease, exotic Newcastle disease, and other foreign diseases. Animal and Plant Health Inspection Service (APHIS) has the responsibility to investigate and eventually control foreign animal disease occurrences. Through its Foreign Animal Disease Surveillance Program, the Emergency Program Staff of Veterinary Services compiles essential epidemiological and diagnostic data that is used to define foreign animal diseases and their risk factors. APHIS collects the information using form VS 12-27.

Need and Use of the Information: APHIS collects information such as the purpose of the diagnostician's visit to the site, the name and address of the owner/manager, the type of operation being investigated, the number of and type of animals on the premises, the number of sick or dead animals, the results of post mortem examinations, and the name of the suspected disease. This information assists APHIS personnel in detecting and eradicating foreign animal disease incursions.

Description of Respondents: Farm; Business or other for profit.

Number of Respondents: 535.

Frequency of Responses: Reporting: On occasion.

Total Burden Hours: 1,070.

Animal Plant and Health Inspection Service

Title: Environmental Monitoring Form.

OMB Control Number: 0579-0117.

Summary of Collection: The mission of the Animal and Plant Health Inspection Service (APHIS) is to provide leadership in ensuring the health and care of animals and plants, to improve the agricultural productivity and competitiveness, and to contribute to the national economy and the public health. The National Environmental Policy Act (NEPA), 42 U.S.C. 4321 et seq., and the regulations of the Council on Environmental Quality, which implements the procedural aspects of NEPA (40 CFR 1500-1508), requires APHIS to implement environmental monitoring for certain activities conducted for pest and disease, control and eradication programs. APHIS Form 2060, Environmental Monitoring Form, will be used to collect information concerning the effects of pesticide used in sensitive habitats.

Need and Use of the Information: APHIS will collect information on the kind of pesticide used, the date of application, the location and description of where samples are collected, and the environmental conditions at the collection site including wind speed and direction, temperature, humidity, amount of rainfall, and topography. The supporting information contained on the APHIS Form 2060 is vital for interpreting the laboratory test APHIS conducts on collected samples. Also, if a given sample were not accompanied by the form, APHIS would have no way of knowing from which site the sample was taken.

Description of Respondents: Federal Government; Individuals or households; Farms.

Number of Respondents: 150.

Frequency of Responses: Reporting: On occasion.

Total Burden Hours: 1,500.

Animal Plant and Health Inspection Service

Title: Export Certification, Accreditation of Non-Government Facilities.

OMB Control Number: 0579-0130.

Summary of Collection: The Department of Agriculture is responsible for preventing plant diseases or insect pests form entering the United States, as well as the spread of pests not widely distributed in the United States, and eradicating those imported when feasible. The Plant Quarantine Act and the Federal Pest Act authorizes the Department to carry out this mission. The regulations in 7 CFR part 353 allow non-government facilities (such as commercial laboratories and private inspection services) to be accredited by the Animal and Plant Health Inspection Service (APHIS) to perform specific laboratory testing or phytosanitary inspections that could serve as the basis for issuing Federal or re-export phytosanitary certificates, or export certificates for processed plant products. APHIS provides export certification services to assure other countries that the plants and plant products are free of plant diseases and insect pests.

Need and Use of the Information: APHIS will collect information for applications submitted by operator/owner of a non-government facility seeking accreditation to conduct laboratory testing or phytosanitary inspection. The application should contain the legal name, full address of the facility, the name, address, telephone and fax numbers of the facility's operator, a description of the facility, and a description of the specific laboratory testing or phytosanitary inspection services for which the facility is seeking accreditation. If the activities are not conducted properly, APHIS export certification program would be compromised, causing a disruption in plant and plant product exports that could prove financially damaging to U.S. exporters.

Description of Respondents: business or other for profit.

Number of Respondents: 15.

Frequency of Responses: Reporting: on occasion.

Total Burden Hours: 300.

Food and Nutrition Service

Title: Report of Coupon Issuance & Commodity Distribution for Disaster Relief.

OMB Control Number: 0584-0037.

Summary of Collection: The Emergency Food Stamp Assistance Program is authorized by the Disaster Relief Act of 1970; the Food Stamp Act, as amended; and Part 274 of the Food Stamp Program regulations. The Food and Nutrition Service (FNS) initiated this program in a food stamp project area when all or part of the area had been affected by a disaster. Sections 274.7 and 274.14 of the Food Stamp Program regulations contain requirements that State agencies keep records and submit reports on food stamps issued under disaster procedures “as may from time to time be required by FNS.” Food distribution in disaster situation is authorized under Section 32 of the Act of August 24, 1935. Surplus foods are made available by State distributing agencies for relief purposes to victims of natural disaster such as hurricanes, floods, tornadoes, etc. Distribution to these recipients is made primarily through such organizations as the American Red Cross or the Salvation Army. These organizations use surplus foods for both central feeding operations and for distribution to families in homes cut off from normal sources of food supply. Form FNS-292 will be used by State welfare departments to report to FNS the number of households and persons who were certified for Emergency Food Stamp Assistance, and also to report the value of coupons issued to those households.

Need and Use of the Information: FNS will collect information through the use of form FNS-292, which is used by the FNS Administrator, the Food Distribution Division, and the three Food Stamp Program divisions to monitor program activity, assess coverage provided to needy recipients, and to prepare budget requests. If the information were not collected, FNS would be unable to monitor the issuance of food stamp coupons and the distribution of surplus foods during disaster situations.

Description of Respondents: State, Local, or Tribal Government.

Number of Respondents: 55.

Frequency of Responses: Recordkeeping; Reporting; On occasion.

Total Burden Hours: 97.

Food and Nutrition Service

Title: Affidavit of Return or Exchange of Food Coupons.

OMB Control Number: 0584-0052.

Summary of Collection: Section 11(a), of the Food Stamp Act (the Act) requires that the state agencies assume responsibility for the certification of applicant households and for the issuance of coupons and the control and accountability thereof. Records shall be kept to ascertain whether the program is being conducted in compliance with the provisions of this Act and the regulations issued pursuant to this Act. Such records shall be available for inspection and audit at any reasonable time and shall be preserved for not less than 3 years.

Need and Use of the Information: The Food and Nutrition Service (FNS) will collect information on coupons returned or exchanged and provides verification of who returned and received the coupons. FNS will use form FNS-135, Affidavit of Return or Exchange of Food Coupons to collect information.

Description of Respondents: State, Local, or Tribal Government; Individuals or households.

Number of Respondents: 30,000.

Frequency of Responses: Recordkeeping; Reporting; On occasion.

Total Burden Hours: 7,500.

Forest Service

Title: 36 CFR Part 228, Subpart A—Locatable Minerals.

OMB Control Number: 0596-0022.

Summary of Collection: The United States Mining Law of 1982, as amended, governs the prospecting for and appropriation of metallic and most nonmetallic minerals on 192 million acres of National Forest set up by proclamation from the public domain. The law gives individuals the right to search for and extract valuable mineral deposits of locatable minerals and secure title to the lands involved. Recording the claim in the local courthouse and with the appropriate BLM State Office affords protection to the mining claimant from subsequent locators. A mining claimant is entitled to reasonable access to claim for further prospecting, mining or necessary related activities, subject to the other laws and applicable regulations. The Forest Service (FS) will collect information using form FS 2800-5, Plan of Operations for Mining Activities on National Forest System Lands.

Need and Use of the Information: FS will collect information requirements for a Notice of Intent; to identify the area involved; the nature of the proposed operations; the route to the area of operations; and the method of transport. The information requirements for a Plan of Operations includes: the name and legal mailing address of the operators; a description of the type of operations proposed; a description of how it would be conducted; a description of the type and standard of existing/proposed roads/access route; a description of the means of transportation to be used; a description of the period during which the proposed activity will take place; and measures to meet the environmental protection requirements. The information requirements for a cessation of operation include: verification to maintain the structures, equipment and other facilities; expected reopening date; estimate of extended duration of operations; and maintenance of the site, structure, equipment and other facilities during nonoperating periods.

Description of Respondents: Business or other for-profit.

Number of Respondents: 4,208.

Frequency of Responses: Reporting: Other (approved for a given period).

Total Burden Hours: 13,174.

Forest Service

Title: Forest Products Free Use Permit, Forest Products Removal Permit and Cash Receipt, and Forest Products Sale Permit and Cash Receipt.

OMB Control Number: 0596-0085.

Summary of Collection: Individuals or other Federal agencies that wish to remove forest products from the National Forest must request a permit. 16 U.S.C. 551 requires the promulgation of regulations to regulate forest use and prevent destruction of the forests. Regulations at 36 CFR 223.1 and 223.2 govern the sale of forest products such as Christmas trees, pinecones, moss, and mushrooms. Regulations at 36 CFR 223.5-223.13 sets forth conditions under which free use of forest product may be obtained by individuals and organizations. 15 U.S.C. 607 provides that a defense against trespass is that the forest product be removed under the regulations. These statutes and regulations apply to 16 U.S.C. 477, 492, and 607a. Regulations at 36 CFR 216.6 require persons to obtain permits to remove special forest products from National Forest Land. Forest Service Regional offices have been issuing Forest Product Removal Permit for over 20 years. The collection of information is required to determine if the applicant meets the criteria under which free use or sale of forest products is authorized by the regulations and to ensure that the permittee complies with the regulations and terms of the permit. This information is also needed to allow Forest Service (FS) compliance personnel to identify permittees in the field.

Need and Use of the Information: FS will collect the name address and tax identification number from person applying for permits. The information will be used by FS to keep a record of persons buying forest products. The information will also be used to ensure that the permittee has not received product values in excess of the amount allowed by regulation in any one fiscal year. Without the forest product removal program, achieving multiple use management programs such as reducing fire hazard and improving forest health on the National Forest would be impaired.

Description of Respondents: Individuals or households; Business or other for-profit.

Number of Respondents: 18,500.

Frequency of Responses: Recordkeeping, Reporting: On occasion.

Total Burden Hours: 1,365.

Farm Service Agency

Title: Agreement for the use of Proceeds/Release of Chattel Security.

OMB Control Number: 0560-0171.

Summary of Collection: Section 335(f) of the Consolidated Farm and Rural Development Act (CONACT) requires release of normal income security to pay essential household and farm operating expenses of the borrower, until the Farm Service Agency (FSA) accelerates the loans. The FSA agreed in the consent degree to approve a borrower's planned use of proceeds from the disposition of their chattel security, record any changes to planned use, and record the actual disposition of chattel security for the year of operation.

Need and Use of the Information: FSA will collect information on the actual and planned disposition of chattel security through the use of form FSA 1962-I. This form allows for normal income releases as required for payment of essential family living and farm operating expenses, provides the borrower with information on how to report sales of chattels, income received and how to notify agency of any changes to the operation or the use of chattel proceeds. The information collected will come from FSA borrowers who may be individual farmers and farming entities.

Description of Respondents: Farms; Business or other for-profit; Individuals or households.

Number of Respondents: 68,750.

Frequency of Responses: Recordkeeping; Reporting: Annually.

Total Burden Hours: 20,350.

Farm Service Agency

Title: Lamb Meat Adjustment Assistance Program (LMAAP).

OMB Control Number: 0560-0205.

Summary of Collection: The Lamb Meat Adjustment Assistance Program (LMAAP) is administered and implemented under the general direction and supervision of the Farm Service Agency (FSA) through its State and County Committees. Authorizing legislation for LMAAP provides for the re-establishment of farmers' purchasing power by making payments in connection with the normal production of any agricultural commodity for domestic consumption. The objective of the LMAAP is to make direct payments to producers of sheep and lamb operations to help them weather the current economic crisis, as well as, help improve their production efficiencies and the marketability of lamb meat during the 4 year period from July 21, 1999 through July 31, 2003.

Need and Use of the Information: FSA will collect information using form FSA 383 for program year 2-4 for the sheep and lamb operations. The information obtained from the form is needed to verify commodity and producer eligibility and calculate payment amounts. Without the information from the producers, FSA would be unable to administer the program to provide direct payments to the sheep and lamb operations.

Description of Respondents: Farm; Individuals or households; Business or other-for-profit.

Number of Respondents: 60,000.

Frequency of Responses: Reporting: Annually.

Total Burden Hours: 339,240.

Farm Service Agency

Title: General Regulations Governing Loans for 1996 and Subsequent Crops.

OMB Control Number: 0560-0087.

Summary of Collection: The Federal Agriculture Improvement and Reform Act of 1996, authorizes The Farm Service Agency (FSA) to make commodity loans for certain commodities to eligible producers. Producers requesting Commodity Credit Corporation (CCC) commodity loans must meet eligibility requirements that are basic to all commodity loan programs. These requirements that are needed to insure the integrity of the loan program and that only eligible producers receive the benefits of the loan program. FSA will collect information on commodity type, quantity of commodity, storage, location, liens on the commodity, etc., through the use of a variety of forms.

Need and Use of the Information: FSA County Committees are responsible for administration of the CCC loan program. The committees use the information collected to verify eligibility of participants to receive loan benefits and to determine cases of noncompliance with the regulations governing the loan program. Furnishing this data is voluntary; however, without it, assistance under the CCC loan program cannot be provided.

Description of Respondents: Farm.

Number of Respondents: 382,455.

Frequency of Responses: Reporting: On occasion; Annually.

Total Burden Hours: 700,591.

Agricultural Marketing Service

Title: Recordkeeping Requirements for Certified Application of Federally Restricted Use Pesticides (7 CFR part 110).

OMB Control Number: 0581-0164.

Summary of Collection: The Food, Agriculture, Conservation, and Trade (FACT) Act of 1990 (Subtitle H, Sec. 1491) mandates the Department of Agriculture (USDA) in consultation with the Administrator of the Environmental Protection Agency (EPA), “shall require certified applicators of federally restricted use pesticides to maintain records comparable to records maintained by commercial applicators in each state.” In addition, USDA and the Administrator of EPA are required under Section 1491(f) of the FACT Act to survey the records, develop and maintain a database so USDA and the Administrator of EPA can prepare and publish annual pesticide use reports, of which copies must be transmitted to Congress. Agricultural Marketing Service (AMS) is charged with administering the Federal Pesticide Recordkeeping Program. AMS requires certified private applicators of federally restricted use pesticides to maintain records of all restricted use pesticide applications for a period of two years.

Need and Use of the Information: AMS will collect information using form STD-8, Pesticide for Recordkeeping Inspection. The form provides information on the brand or product name and the EPA registration number of the federally restricted use pesticide that was applied; the total amount of the federally restricted use pesticide applied; the location, the size of the area treated, the crop, commodity, stored product or site to which a restricted use pesticide was applied; the month, day and year on which the restricted use pesticide application occurred; and the name and certification number of the certified applicator who applied or who supervised the application of the restricted use of pesticide. In order to properly administer the Pesticide Recordkeeping Program, AMS needs to monitor and determine to what extent private applicators are complying with the program's requirements and identify the reasons for non/or partial compliance. AMS has the responsibility to assure records are kept to provide information to be utilized by licensed health care professionals for possible medical treatment. In addition, the stature requires USDA to submit annual reports to Congress pertaining to the use of restricted use pesticides in agricultural production.

Description of Respondents: Farm; Federal Government; State, Local or Tribal Government.

Number of Respondents: 915,780.

Frequency of Responses: Recordkeeping; Reporting: On occasion.

Total Burden Hours: 1,785,041.

Rural Development

Title: 7 CFR 1901-E, Civil Rights Compliance Requirements.

OMB Control Number: 0575-0018.

Summary of Collection: The Rural Development (RD) is required to provide Federal financial assistance through its farmer, housing, and community and business programs on an equal opportunity basis. The laws implemented in 7 CFR 1901-E, require the recipients of Rural Development's Federal financial assistance to collect various types of information by race, color, and national origin.

Need and Use of the Information: RD will use this information to monitor a recipient's compliance with the civil rights laws and to determine whether or not service and benefits are being provided to beneficiaries on an equal opportunity basis. This information is made available to USDA officials, officials of other Federal agencies and to Congress for reporting purposes. Without the required information, RD and its recipient will lack the necessary documentation to demonstrate that their programs are being administered in a nondiscriminatory manner and in full compliance with the civil rights laws.

Description of Respondents: Individuals or households; Not-for-profit institutions; Business or other for-profit; Farms; State, Local or Tribal Government.

Number of Respondents: 19,565.

Frequency of Responses: Reporting: On occasion.

Total Burden Hours: 555,692.

Food and Nutrition Service

Title: Uniform Grant Application for Non-Entitlement Discretionary Grants.

OMB Control Number: 0584-New.

Summary of Collection: The Food and Nutrition Service (FNS) has establish a process for a uniform grant application usable for all of the non-entitlement discretionary grant programs to collect the information from grant applicants needed to evaluate and rank applicants and protect the integrity of the grantee selection process. All FNS discretionary grant programs will be eligible, but not required to use the uniform grant application package. The authorities for these grants vary. The term “grant” in this submission refers only to non-entitlement discretionary grants or cooperative agreements Discretionary grant announcements include a number of information collections, including a “project description” (program narrative), assurances and certifications. The requirements for the program narrative statement are based on the requirements for program narrative statements described in section 1.c(5) of OMB Circular A-102 and OMB A-110.

Need and Use of the Information: As the primary users of the information collected, FNS will review, evaluate and approve application package will include general information and instructions; requirements for the program narrative statement describing how the grant objectives will be reached as well as a description of the budget; the Standard Form (SF 424 series that requests basic information, budget information and assurances) and certifications. Currently, there is no government-wide OMB pre-approved form for the project narrative, although a program narrative is required in existing OMB circulars.

Description of Respondents: State, Local, or Tribal Government; Business or other for-profit; Not for profit institutions.

Number of Respondents: 505.

Frequency of Responses: Reporting: Other (one-time).

Total Burden Hours: 30,000.

Food and Nutrition Service

Title: Consumer Food Guide Pyramid Study.

OMB Control Number: 0584-New.

Summary of Collection: The U.S. Department of Agriculture's Food Guide Pyramid is designed to help all healthy Americans two years of age and older implement the Dietary Guidelines for Americans. The proposed qualitative consumer research will describe consumers' understanding and use of the Food guide Pyramid along with possible barriers to following the Pyramid's guidance. The study involves 18 focus group sessions, 6 with general consumers and 4 each with the elderly, overweight, and food stamp recipients, to explore how consumers understand concepts and messages of the consumer brochure and graphic illustration of the Food Guide Pyramid. The authority to conduct this information collection is found in 7 CFR 2.19(a)(3).

Need and Use of the Information: The Center for Nutrition Policy and promotion (CNPP) will collect information to develop practical and meaningful food and nutrition guidance for Americans to help improve their diets. Information will be collected concerning how the Food Guide Pyramid recommendations and messages are understood and used by consumers to improve their diets, and barriers to their use of the Pyramid. If the information is not collected, USDA's ability to incorporate messages and materials that are practical, meaningful, and relevant for the intended audience in any proposed update of the Food Guide Pyramid will be impaired.

Description of Respondents: Individuals or households.

Number of Respondents: 2,700.

Frequency of Responses: Reporting: Other (one-time).

Total Burden Hours: 1,035.

Forest Service

Title: Small Business Timber Set-Aside Program: Appeal Procedures on Recomputation of Shares.

OMB Control Number: 0596-0141.

Summary of Collection: The Conference Report accompanying the 1997 Omnibus Appropriation Act (Pub L. 104-208) requires that the Forest Service establish a process by which purchasers may appeal decisions concerning recomputations of Small Business Set-aside (SBA) shares or changes in policies impacting the Small Business Timber Sale Set-aside Program.

Need and Use of the Information: the information collected is submitted to a Forest Service Officer to review any appeal of decisions related to recomputations of timber sale share to be set-aside for small business timber purchasers.

Description of Respondents: Business or other for-profit.

Number of Respondents: 40.

Frequency of Responses: Reporting: On occasion.

Total Burden Hours: 320.

Sondra A. Blakey,
Departmental Information Clearance Officer.

[FR Doc. 02-6211 Filed 3-14-02; 8:45 am]

BILLING CODE 3410-01-M